DEPARTMENT OF COMMERCE

National Oceanic and Atmospheric Administration

[RTID: 0648-XB900]

Notice of Intent To Prepare a Programmatic Environmental Impact Statement for Identification of Aquaculture Opportunity Areas in Federal Waters of the Gulf of Mexico and To Conduct Public Scoping Meetings

AGENCY: National Marine Fisheries Service (NMFS), National Oceanic and Atmospheric Administration (NOAA), Department of Commerce.

ACTION: Notice of intent to prepare a programmatic environmental impact statement and conduct public scoping meetings.

SUMMARY: In compliance with Section 7 of Executive Order 13921, “Promoting American Seafood Competitiveness and Economic Growth” NMFS intends to prepare a programmatic environmental impact statement (PEIS) to evaluate alternatives for identifying Aquaculture Opportunity Areas (AOAs) in Federal waters of the Gulf of Mexico. The PEIS will be prepared in accordance with the requirements of the National Environmental Policy Act (NEPA), the regulations published by the Council on Environmental Quality, and NOAA's NEPA implementing procedures, NOAA Administrative Order 216-6A and its Companion Manual. Input from stakeholders and the public is essential to identifying AOAs; and this notice initiates the public scoping process for the PEIS, which includes a 60-day public comment period. The intent of this PEIS is to support long-term planning for offshore aquaculture by analyzing potential locations for one or more offshore AOAs in the Gulf of Mexico and the types of impacts that could be associated with future proposed aquaculture projects in those locations. Comments that are provided prior to the close of the comment period and clearly articulate opinions or concerns will provide the greatest assistance to NMFS in the preparation of the PEIS.

DATES: The 60-day public scoping period begins Wednesday, June 1, 2022, and will continue until August 1, 2022. NMFS will consider all written comments received by August 1, 2022.

Three virtual public scoping meetings will be held on:

• Wednesday, June 8, 2022, 6:30 p.m.-8:30 p.m. CDT/7:30 p.m.-9:30 p.m. EDT

• Thursday, June 16, 2022, 5:30 p.m.-7:30 p.m. CDT/6:30 p.m.-8:30 p.m. EDT

• Tuesday, July 12, 2022, 6:30 p.m.-8:30 p.m. CDT/7:30 p.m.-9:30 p.m. EDT

ADDRESSES: You may submit written comments on this PEIS identified by “NOAA-NMFS-2022-0044” by any of the following methods:

Electronic submissions: Submit all electronic public comments via the Federal e-Rulemaking Portal. Go to: http://www.regulations.gov and enter “NOAA-NMFS-2022-0044” in the Search box. Click on the “Comment” icon, complete the required fields, and enter or attach your comments.

Mail: Submit written comments by mail to Andrew Richard, Regional Aquaculture Coordinator, NMFS, Southeast Regional Office, 263 13th Avenue South, St. Petersburg, FL 33701. Please include “Gulf AOA PEIS” on the envelope.

Instructions: Oral comments will be accepted during the three virtual public scoping meetings described under DATES. Information on how to join these meetings can be found at: https://www.fisheries.noaa.gov/news/gulf-mexico-aquaculture-opportunity-area-programmatic-environmental-impact-statement. Comments sent or provided by any other method, to any other address or individual, or received after the end of the comment period, may not be considered by NMFS. All comments received are a part of the public record and may be posted for public viewing on http://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Andrew Richard, Southeast Regional Aquaculture Coordinator, telephone: (727) 551-5709; or email: nmfs.ser.aquaculture@noaa.gov.

Individuals who use telecommunication devices for the deaf may call the Federal Information Relay Service at 800-877-8339 between 8 a.m. and 8 p.m., Eastern Time, Monday through Friday.

SUPPLEMENTARY INFORMATION:

Purpose and Need for the Proposed Action

NMFS proposes to consider identifying one or more locations, referred to as Aquaculture Opportunity Areas or AOAs, that may be suitable for multiple future offshore aquaculture projects in Federal waters in the Gulf of Mexico, and to evaluate the general impacts of siting aquaculture in those locations, which could occur through future proposals and project level review. AOAs identified through this process would be considered suitable for finfish, shellfish, macroalgae or multi-species aquaculture. The proposed action is a long-term planning effort. It is not a regulatory or permitting action and does not propose to authorize or permit any specific aquaculture-related activities or individual aquaculture projects.

An AOA is a defined geographic area that has been evaluated to determine its potential suitability for commercial aquaculture. NMFS will use a combination of scientific analysis and public engagement to identify AOAs that may be environmentally, socially, and economically suitable for commercial aquaculture. AOAs may only be identified by NMFS after completion of a final programmatic environmental impact statement and issuance of a Record of Decision (ROD). Should NMFS ultimately select an alternative that identifies one or more AOAs, the ROD will serve as the agency's decision document.

On May 7, 2020, the White House issued an Executive Order on Promoting American Seafood Competitiveness and Economic Growth (E.O. 13921), which requires the Secretary of Commerce to identify geographic areas containing locations suitable for commercial aquaculture. The purpose of the proposed action is to apply a science-based approach to identify AOAs in Federal waters of the Gulf of Mexico. The goal of identifying AOAs is to promote American seafood competitiveness, food security, economic growth, and support the facilitation of the development of domestic commercial aquaculture, consistent with sustaining and conserving marine resources and applicable laws, regulations and policies.

The proposed action is needed to meet the directives of E.O. 13921 to address the increasing demand for seafood; facilitate long-term planning for marine aquaculture development; and address interests and concerns regarding offshore marine aquaculture siting.

Background Information

E.O. 13921 instructs NOAA to lead a multi-agency, public planning effort to identify 10 AOAs over the course of 7 years. In order to select the first two geographic regions in which AOAs would be identified, NMFS, on behalf of NOAA, took into consideration existing aquaculture industry interest; existing foundational work (siting analyses and environmental reviews) that could support AOA development; the maturity of the existing interagency communication and collaboration structure; and the history of engagement with stakeholders on aquaculture in regions throughout the United States. As a result of these considerations, NMFS selected Federal waters off the coast of southern California and Federal waters in the Gulf of Mexico as the first two geographic regions in which to identify AOAs.

The National Centers for Coastal Ocean Science initiated a marine spatial planning process to assist agency decision makers in identifying areas that may be suitable for locating AOAs as mandated by E.O. 13921. This process was based on spatial suitability modeling that included data layers relevant to administrative boundaries, national security (i.e., military), navigation and transportation, energy and industry infrastructure, commercial and recreational fishing, natural and cultural resources, and oceanography (i.e., non-living resources). This spatial modeling approach was specific to the planning goal of identifying discrete areas that are 500-2,000 acres (202-809 hectares) that met the industry and engineering requirements of depth and distance from shore and that may be suitable for all types of aquaculture development including the cultivation of finfish, macroalgae, shellfish, or a combination of species.

This work resulted in an “Aquaculture Opportunity Atlas for the U.S. Gulf of Mexico” (Riley, K.L., Wickliffe, L.C., Jossart, J.A., MacKay, J.K., Randall, A.L., Bath, G.E., Balling, M.B., Jensen, B.M., and Morris, J.A. Jr. 2021. An Aquaculture Opportunity Area Atlas for the U.S. Gulf of Mexico. NOAA Technical Memorandum NOS NCCOS 299. Beaufort, NC. 545 pp. https://doi.org/10.25923/8cb3-3r66), which is referred to herein as the Atlas and is available online at https://repository.library.noaa.gov/view/noaa/33304.

The Atlas used a precision-siting, scoring, and ranking process to narrow the suitability analysis results to nine, 500-2,000-acre (202-809 hectares) “AOA options” that have high potential suitability for an AOA in the Gulf of Mexico: Three off the coast of Texas, three off the coast of Louisiana, and three off the west coast of Florida, depicted in Figure 3.30 on pages vii and 133 of the Atlas. The Atlas includes peer-reviewed technical information that may be used to assist agency decision makers in identifying areas that may be suitable for locating AOAs. The Atlas does not reflect any agency decision to identify specific AOAs or foreclose the agency's ability to evaluate alternate locations for consideration as AOAs.

The Atlas is a technical document providing geospatial analysis information that will be used as one source of information to assist the agency in identifying one or more AOAs within Federal waters of the Gulf of Mexico. The draft and final PEIS will assess the environmental impacts related to the potential siting of aquaculture facilities in potential AOA locations in Federal waters in the Gulf of Mexico, as informed by the Atlas and other relevant sources of information. AOAs may only be identified by NMFS after completion of a final PEIS and issuance of a ROD. Should NMFS ultimately select an alternative that identifies one or more AOAs, the ROD will serve as the agency's decision document.

Preliminary Description of Proposed Action and Alternatives

NMFS proposes to consider identifying one or more locations, referred to as Aquaculture Opportunity Areas or AOAs, that may be suitable for multiple future offshore aquaculture projects in Federal waters in the Gulf of Mexico, and to evaluate the general impacts of siting aquaculture in those locations, which could occur through future proposals and project level review. The nine locations identified as “AOA options” in the Atlas may be considered in the draft PEIS, in addition to the no action alternative. NMFS will determine the number and scope of alternatives explored and select the locations to be evaluated in the draft PEIS based on the comments received during this public scoping period. NMFS is also considering the suitability of evaluating alternatives that would focus on specific aquaculture types (e.g., finfish, shellfish, macroalgae or multi-species), specific species that could be cultivated, or gears that could be used in the nine “AOA options” identified in the Atlas, depending upon input from the public.

This effort to identify AOAs in the Gulf of Mexico will be focused exclusively on Federal waters. Future efforts to identify AOAs may consider locations in State waters if there is interest and support from a State.

Three of the nine “AOA options” are located off the coast of Texas and are referred to as W-1, W-4 and W-8. Location W-1 is depicted as a polygon in Figure 3.31 on page 141 of the Atlas, is 2,000 acres (809 hectares), and is situated approximately 35 nmi (65 km) east of the Port Mansfield Channel, Texas. Location W-4 is depicted as a polygon in Figure 3.43 on page 158 of the Atlas, is 2,000 acres (809 hectares), and is situated approximately 50 nmi (91.5 km) southeast of Port Aransas, Texas. Location W-8 is depicted as a polygon in Figure 3.55 on page 175 of the Atlas, is 500 acres (202 hectares), and is situated approximately 58 nmi (107.4 km) southeast of Freeport, Texas.

Three of the nine “AOA options” in the Atlas are located off the coast of Louisiana and are referred to as C-3, C-11 and C-13. Location C-3 is depicted as a polygon in Figure 3.67 on page 194 of the Atlas, is 2,000 acres (809 hectares), and is situated approximately 72 nmi (133.4 km) from Pecan Island (Morgan City, Louisiana, is the closest town with significant infrastructure). Location C-11 is depicted as a polygon in Figure 3.79 on page 211 of the Atlas, is 2,000 acres (809 hectares), and is situated approximately 41 nmi (76.7 km) south of Port Fourchon, Louisiana. Location C-13 is depicted as a polygon in Figure 3.91 on page 228 of the Atlas, is 500 acres (202 hectares), and is situated approximately 5 nmi (9.6 km) south of the inlet to South Pass, Louisiana.

Three of the nine “AOA options” in the Atlas are located off the west coast of Florida and are referred to as E-1, E-3 and E-4. Location E-1 is depicted as a polygon in Figure 3.128 on page 281 of the Atlas, is 500 acres (202 hectares), and is situated approximately 56-58 nmi (104 km-107.7 km) from the inlets off of Fort Myers, Florida. Location E-3 is depicted as a polygon in Figure 3.116 on page 264 of the Atlas, is 2,000 acres (809 hectares), and is situated approximately 49 nmi (91.6 km) to the inlet off Tampa, Florida. Location E-4 is depicted as a polygon in Figure 3.104 on page 247 of the Atlas, is 2,000 acres (809 hectares) and is situated approximately 58 nmi (107.8 km) from the inlet in Clearwater, Florida.

Copies of the figures from the Atlas depicting the nine “AOA options” can be found on the NMFS Gulf of Mexico Aquaculture Opportunity Area website, https://www.fisheries.noaa.gov/news/gulf-mexico-aquaculture-opportunity-area-programmatic-environmental-impact-statement.

Summary of Expected Impacts

NEPA requires identification and evaluation of impacts to the human environment likely to be caused by an agency's proposed action. Under NEPA, the human environment is interpreted comprehensively to include the biological and physical environment and the relationship of people with that environment. The PEIS proposed in this Notice of Intent will be a planning-level document. The PEIS will analyze potential impacts to the human environment that may occur should projects be proposed in one or more AOAs, if identified. The following discussion reflects NMFS's preliminary identification of biological and physical resources that may be relevant to identification of AOAs and NMFS solicits the public's input on these matters.

Biological and physical resources impacted by potential future offshore aquaculture development in proposed AOA locations may include water quality, air quality, habitat (e.g., benthic and water column habitats), managed and non-managed fishery resources (e.g., fish, elasmobranchs, such as sharks, and invertebrates), and protected resources including migratory birds, corals, fish (including elasmobranchs such as sharks), sea turtles and marine mammals. Impacts to these biological and physical resources that may be considered include protected species interactions (e.g., entanglement, vessel strikes); alteration to habitats; disease transmission risk; escapement risk (e.g., genetic impacts); water quality changes (e.g., nutrients, contaminants); habitat displacement and fragmentation; gear failure risk (e.g., storm risk, operator error); marine debris; impacts to essential fish habitat; ecosystem impacts (e.g., alteration of predator prey interactions, broodstock sourcing, fish aggregating device effects); and noise, lighting and visual disturbance. Impacts to the biological and physical environment could occur during the aquaculture development, implementation, and decommissioning phases of a project, which include siting, construction, operation, maintenance, and removal.

Socioeconomic impacts considered may include impacts to commercial and recreational fishing; tourism and recreation; public health and safety; transportation; communications infrastructure; domestic and international seafood markets; oil, gas and alternative energy development and infrastructure; military preparedness; local ports, marinas and communities; and local job markets. Cultural and historic resources impacted could include archaeological sites, traditional fishing grounds and American Indian traditional uses. Environmental justice impacts considered may include impacts to vulnerable communities, impacts of aquaculture on climate change, and impacts of climate change on aquaculture.

Wherever possible and supported by the best available science, the PEIS will recommend mitigation strategies to address impacts associated with offshore aquaculture siting and development in the proposed AOAs.

Anticipated Permits and Other Authorizations

The Federal action to identify AOAs is a planning process. Neither the final PEIS nor the resulting ROD will authorize any specific activities or approve any individual projects.

Any future aquaculture operations proposed within an AOA would be required to comply with all applicable Federal and state laws and regulations, including but not limited to the Clean Water Act, Rivers and Harbors Act, Endangered Species Act, the Magnuson-Stevens Fishery Conservation and Management Act (Magnuson-Stevens Act), Marine Mammal Protection Act, National Historic Preservation Act, and National Marine Sanctuaries Act. Compliance may include Endangered Species Act and essential fish habitat (Magnuson-Stevens Act) consultations, and Marine Mammal Protection Act authorizations.

Additional NEPA analysis may be required as part of permitting and authorization processes. Cooperating agencies may adopt the PEIS and utilize the information to support their permitting decisions.

Schedule for the Decision-Making Process

The PEIS planning process is expected to take 2 years from the date of this notice. The draft PEIS is tentatively scheduled for publication in fall 2023. The draft PEIS will be released for public comment, and all public comments will be considered before issuing a final PEIS. The final PEIS is tentatively scheduled for publication in spring 2024, with a record of decision to follow no sooner than 30 days later.

Public Scoping Process

This notice initiates the scoping process, which in turn guides the scope of environmental issues, impacts, alternatives and mitigation measures to be included in the draft PEIS. Comments will be accepted until August 1, 2022. Interested parties may submit public comments according to the instructions described in the DATES and ADDRESSES sections above.

Request for Identification of Potential Alternatives, Information, and Analyses Relevant to the Proposed Action

NMFS requests data, comments, views, information, analysis, alternatives, or suggestions on the proposed action from the public; affected Federal, State, Tribal, and local governments, agencies, and offices; the scientific community; non-governmental organizations; industry; and all other interested parties. Specifically, we are soliciting information and feedback on:

1. The scope of the NEPA analysis, including the range of reasonable alternatives and how many or which locations should be considered and evaluated;

2. The type of aquaculture (e.g., finfish, shellfish, seaweed, multi-species aquaculture) that could be supported or analyzed in a proposed AOA location;

3. Ecologically, economically and socially suitable species and gear for aquaculture that could be analyzed for a proposed AOA location;

4. Monitoring and reporting requirements for owners and operators of aquaculture facilities that could mitigate impacts to managed and non-managed fishery resources, protected species, habitat, water quality, storm, navigation, economic, social, cultural and other impacts;

5. Potential adverse, beneficial, neutral, or cumulative impacts to biological, physical and ecological resources, including potential interactions with marine mammals and other species protected by the Marine Mammal Protection Act or Endangered Species Act, essential fish habitat designated under the Magnuson-Stevens Act, and other sensitive, managed, or protected habitats in the Gulf of Mexico;

6. Potential adverse, beneficial, neutral, or cumulative impacts to the social, economic, and cultural environment, including commercial and recreational fishing industries and coastal communities;

7. Promotion of environmental justice, diversity, equity, and inclusion when considering alternative AOA locations and other aspects of offshore aquaculture development in Federal waters of the Gulf of Mexico;

8. Underserved communities and underrepresented groups, and/or regions and communities that could either benefit from or be adversely impacted by the siting of AOAs in the Gulf of Mexico;

9. The impact of climate change or changing environmental conditions (e.g., storm intensity, sea level rise, water quality) on siting and other aspects of aquaculture;

10. Current or planned activities in or near the areas highlighted in this notice and their possible impacts on aquaculture development or the impact of aquaculture developments on those activities;

11. Other topics relevant to the Proposed Action and its impacts on the human environment.

Lead and Cooperating Agencies

NMFS is the lead agency for this PEIS. The U.S. Environmental Protection Agency, U.S. Army Corps of Engineers, Bureau of Ocean Energy Management, and U.S. Air Force will be cooperating agencies on this PEIS.

Decision Maker

Mr. Andrew J. Strelcheck, Regional Administrator, NMFS, Southeast Regional Office.

Nature of Decision To Be Made

NMFS will use a combination of best available scientific information and public engagement to evaluate and consider identifying areas that may be environmentally, socially, and economically suitable for commercial aquaculture as AOAs. Geographic areas proposed as AOAs will be described in the draft and final PEIS along with the no action alternative. Selection of AOAs will follow evaluation in the draft and final PEIS with the agency's issuance of a ROD explaining the factors considered in making the final decision. The identification of an AOA in the ROD is not a regulatory action and does not bind NMFS or the cooperating agencies to take any specific action related to an AOA.

No specific aquaculture projects are being proposed or will be permitted through the PEIS. The analysis presented in the draft and final PEIS and the identification of AOAs in the ROD will serve to guide and inform future decision-making (e.g., environmental review and permitting processes) if and when specific proposals to conduct aquaculture operations are proposed within these areas.

Future aquaculture operations proposed within an AOA would be required to comply with all applicable Federal and state laws and regulations, including but not limited to the Clean Water Act, Rivers and Harbors Act, Endangered Species Act, the Magnuson-Stevens Act, Marine Mammal Protection Act, National Historic Preservation Act, and National Marine Sanctuaries Act. Compliance may include Endangered Species Act and essential fish habitat (Magnuson-Stevens Act) consultations, and Marine Mammal Protection Act authorizations. Additional NEPA analysis may be required as part of permitting and authorization processes. Cooperating agencies may adopt the PEIS and utilize the information in their permitting decisions.

Identifying AOAs is an opportunity for NMFS to use best available science-based guidance on sustainable aquaculture management, meaningfully take into account the views of the public and stakeholders, and support the “triple bottom line” of environmental, economic, and social sustainability.

(Authority: Executive Order on Promoting American Seafood Competitiveness and Economic Growth, E.O. 13921)

Dated: May 13, 2022.
Danielle Blacklock,
Director, Office of Aquaculture, National Marine Fisheries Service.

[FR Doc. 2022-11564 Filed 5-31-22; 8:45 am]

BILLING CODE 3510-22-P